DEPARTMENT OF DEFENSE

Defense Acquisition Regulations System

48 CFR Parts 209, 225, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective March 28, 2014.

FOR FURTHER INFORMATION CONTACT: Mr. Manuel Quinones, Defense Acquisition Regulations System, OUSD (AT&L) DPAP (DARS), Room 3B855, 3060 Defense Pentagon, Washington, DC 20301-3060. Telephone 571-372-6088; facsimile 571-372-6094.

SUPPLEMENTARY INFORMATION: This final rule amends the DFARS as follows:

1. Correct 209.105-1(1) conform to the implementation of the System for Award Management (SAM).

2. Correct 225.7003-3 to update cross-references to DFARS Procedures, Guidance, and Information.

3. Correct 252.204-7007(d)(2) to remove obsolete text and update the clause date.

4. Correct 252.209-7004 to conform to the System for Award Management (SAM) and update the clause date.

List of Subjects in 48 CFR Parts 209, 225, and 252

Government procurement.

Manuel Quinones,
Editor, Defense Acquisition Regulations System.

Therefore, 48 CFR parts 209, 225, and 252 are amended as follows:

1. The authority citation for 48 CFR parts 209, 225, and 252 continues to read as follows:

Authority: 41 U.S.C. 1303 and 48 CFR chapter 1.

PART 209—CONTRACTOR QUALIFICATIONS

209.105-1 [Amended]

2. Section 209.105-1 paragraph (1) is amended by removing “System for Award Management Exclusions” and adding “Exclusions section of the System for Award Management” in its place.

PART 225—FOREIGN ACQUISITION

225.7003-3 [Amended]

3. Section 225.7003-3 is amended by—

a. Removing the introductory text;

b. In paragraph (c)(2), removing “PGI 225.7003-3” and adding “PGI 225.7003-3(c)” in its place; and

c. In the introductory text of paragraph (d), removing “PGI 225.7003-3” and adding “PGI 225.7003-3(d)” in its place.

PART 252—SOLICITATION PROVISIONS AND CONTRACT CLAUSES

4. Section 252.204-7007 is amended by—

a. Removing the clause date “(MAY 2013)” and adding “(MAR 2014)” in its place.

b. Revising paragraph (d)(2) to read as follows:

252.204-7007 Alternate A, Annual Representations and Certifications.

* * * * *

(d) * * *

(2) The following representations or certifications in SAM are applicable to this solicitation as indicated by the Contracting Officer: [Contracting Officer check as appropriate.]

__(i) 252.209-7002, Disclosure of Ownership or Control by a Foreign Government.

__(ii) 252.225-7000, Buy American—Balance of Payments Program Certificate.

__(iii) 252.225-7020, Trade Agreements Certificate.

__Use with Alternate I.

__(iv) 252.225-7031, Secondary Arab Boycott of Israel.

__(v) 252.225-7035, Buy American—Free Trade Agreements—Balance of Payments Program Certificate.

__Use with Alternate I.

__Use with Alternate II.

__Use with Alternate III.

__Use with Alternate IV.

__Use with Alternate V.

* * * * *

5. Section 252.209-7004 is amended by—

a. Removing the clause date “(DEC 2006)” and adding “(MAR 2014)” in its place; and

b. In paragraph (a), removing “Excluded Parties List” and adding “Exclusions section of the System for Award Management” in its place.

[FR Doc. 2014-07003 Filed 3-27-14; 8:45 am]

BILLING CODE 5001-06-P